DEPARTMENT OF COMMERCE

Foreign-Trade Zones Board

(Docket T-1-2008)

Foreign-Trade Zone 79 Tampa, FL, Application for Temporary/Interim Manufacturing Authority, Tampa Bay Shipbuilding and Repair Company (Shipbuilding), Tampa, FL

An application has been submitted to the Executive Secretary of the Foreign-Trade Zones Board (the Board) by the City of Tampa, grantee of FTZ 79, requesting temporary/interim manufacturing (T/IM) authority within FTZ 79 at the Tampa Bay Shipbuilding and Repair Company (TBSRC) facility in Tampa, Florida. The application was filed on April 8, 2008.

The TBSRC facility (852 employees) is located at 1130 McCloskey Boulevard within the Hooker's Point Terminal Complex (Site 5), in Tampa. Under T/IM procedures, TBSRC would construct and repair cruise ships and ferries (HTSUS 8901.90), double-hulled liquid barges and articulating tug barges (HTSUS 8901.20), fishing boats (8902.00), tug boats (8904.00), dredgers (8905.10), offshore production platforms (8905.20), and floating docks (8905.90) for domestic and international customers. Foreign components that would be used in the construction and repair activity (up to 5% of total purchases) include: anchor chain (7315.81), aluminum beams (7610.90), flexible tubing (8307.10), diesel engines (8408.10) and parts (8409.91, 8409.99), pumps (8413.11), turbochargers (8414.59), heat exchange/cooling units (8419.50), centrifuges (8421.19), filters (8421.23, 8421.29, 8421.31), fire suppression equipment (8424.20, 9032.89), rudders (8479.89), bow thrusters (8501.53), valves (8481.10, 8481.20, 8481.30, 8481.40, 8481.80), stern tubes (8483.30, reduction gears (8483.40), transmission shaft grounding systems and seals (8483.90), generators (8501.63) and parts (8503.00), transformers (8504.34), speed drive controllers (8504.40), overfill alarms (8531.90), ACCU automated/steering systems (8537.10), generator sets (8502.39), liquid flow measurement instruments (9026.10) (duty rates: free - 5.7%).

FTZ procedures could exempt TBSRC from customs duty payments on the foreign components used in export activity. On domestic sales, the company would be able to choose the duty rate that applies to finished oceangoing vessels (duty free) for the foreign-origin components noted above. Customs duties also could possibly be deferred or reduced on foreign status production equipment. The activity conducted under FTZ procedures would be subject to the “standard shipyard restriction” applicable to foreign-origin steel mill products, which requires that full customs duties be paid on such items.

Public comment is invited from interested parties. Submissions (original and 3 copies) shall be addressed to the Board's Executive Secretary at the following address: Office of the Executive Secretary, Room 2111, U.S. Department of Commerce, 1401 Constitution Avenue, NW, Washington, DC 20230-0002. For further information, contact Pierre Duy at pierre_duy@ita.doc.gov, or (202) 482-1378. The closing period for receipt of comments is May 16, 2008.

A copy of the application will be available for public inspection at the Office of the Foreign-Trade Zones Board's Executive Secretary at the address listed above.

Dated: April 8, 2008.
Andrew McGilvray,
Executive Secretary.

[FR Doc. E8-8175 Filed 4-15-08; 8:45 am]

BILLING CODE 3510-DS-S